DEPARTMENT OF STATE

[Public Notice 7537]

International Joint Commission Public Hearings on Binational Management of Lake of the Woods and Rainy River Watershed

The International Joint Commission (IJC) will hold public hearings on the final report of its International Lake of the Woods and Rainy River Watershed Task Force (Task Force).

The Task Force report to the IJC makes recommendations on how the United States and Canada could work together to better manage water quality, water quantity, and related issues in the international Lake of the Woods and Rainy River watershed.

Task Force recommendations address five themes to improve bi-national governance for priority issues in the watershed. These include a summit convened by the IJC to encourage the development of a watershed vision, common goals and objectives; combining two existing IJC Boards into a single International Watershed Board with a water quality mandate encompassing all boundary waters in the watershed (including Lake of the Woods); increased support for the existing International Multi-Agency Arrangement's work on water quality science efforts in the watershed; increased local participation in watershed management governance; and a review of water-level regulation on Lake of the Woods.

In June 2010, the Governments of Canada and the United States asked the IJC to examine and make recommendations regarding the bi-national management of the Lake of the Woods and Rainy River system and the IJC's potential role in this management. The IJC established the Task Force to review the ways that Canada and the United States work together to manage water quality, water quantity and related issues in the watershed, to identify gaps in the current approach, to identify key existing or emerging issues that require attention, and to recommend any new or adjusted governance mechanisms that would help address the identified issues.

The submission of the report marks the completion of the Task Force's work. The IJC is now inviting public comment on the report. Comments will be received at public meetings held August 15-20 at the following dates and times:

Dates | City | Meeting location | Central time
Monday, August 15 | Fort Frances, ON | La Place Rendez Vous, 1201 Idlywild Dr | 7 p.m.
Tuesday, August 16 | International Falls, MN | Rainy River Community College Theatre, 1501 Highway 71 | 6 p.m.—Board Meeting; 7:30 p.m.—IJC Hearing.
Wednesday, August 17 | Cook, MN | Cook Ranger Station, 320 North Highway 53 55723 | 7 p.m.
Thursday, August 18 | Baudette, MN | Historic Rex—Hotel Event Room, 103 First Street, NW 56623 | 7 p.m.
Friday, August 19 | Stratton, ON | Kay-Nah-Chi-Wah-Nung (Rainy River First Nations Interpretation Center) Shaw Rd | 1 p.m.
Saturday, August 20 | Kenora, ON | Lakeside Inn (Best Western), 470 First Avenue S | 9 a.m.

The International Joint Commission will also accept written comments on the Task Force report via its IJC Web site (http://www.ijc.org), e-mail or regular mail at the addresses below until August 31, 2011.

Secretary, U.S. Section, International Joint Commission, 2000 L Street, NW., Suite 615, Washington, DC 20440, Fax: 202-632-2006, E-mail: commission@washington.ijc.org.

Secretary, Canadian Section, International Joint Commission, 234 Laurier Ave. West, 22nd Floor, Ottawa, ON K1P 6K6, Fax: 613-993-5583, E-mail: commission@ottawa.ijc.org.

Informed by the report and comments from the public, the IJC will make its recommendations to the U.S. and Canadian Governments by December 2011.

The International Joint Commission prevents and resolves disputes between the United States of America and Canada under the 1909 Boundary Waters Treaty and pursues the common good of both countries as an independent and objective advisor to the two governments.

Dated: July 22, 2011.
Charles A. Lawson,
Secretary, U.S. Section, International Joint Commission, Department of State.

[FR Doc. 2011-19113 Filed 7-27-11; 8:45 am]

BILLING CODE 4710-14-P